DEPARTMENT OF TRANSPORTATION

Federal Aviation Administration

14 CFR Part 39

[Docket No. FAA-2015-1427; Directorate Identifier 2013-NM-203-AD]

RIN 2120-AA64

Airworthiness Directives; Airbus Airplanes

AGENCY: Federal Aviation Administration (FAA), DOT.

ACTION: Notice of proposed rulemaking (NPRM).

SUMMARY: We propose to supersede Airworthiness Directive (AD) 96-18-06 for certain Airbus Model A320-211 and -231 airplanes. AD 96-18-06 currently requires visual inspections to detect cracks of the pressurized floor fittings at frame (FR) 36, and renewal of the zone protective finish or replacement of fittings with new fittings if necessary. Since we issued AD 96-18-06, an extended service goal analysis by the manufacturer revealed that the compliance times and repetitive inspection intervals should be reduced to meet the design service goal. This proposed AD would retain the requirements of AD 96-18-06, with reduced compliance times and repetitive inspection intervals. This proposed AD would also add Model A320-212 airplanes to the applicability. We are proposing this AD to detect and correct fatigue cracking in the pressurized floor fittings at FR 36, which could result in failure of a floor fitting and subsequent depressurization of the fuselage.

DATES: We must receive comments on this proposed AD by July 20, 2015.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-1427; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2015-1427; Directorate Identifier 2013-NM-203-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On August 23, 1996, we issued AD 96-18-06, Amendment 39-9730 (61 FR 46703, September 5, 1996). AD 96-18-06 requires actions intended to address an unsafe condition on certain Airbus Model A320-211 and -231 airplanes.

Since we issued AD 96-18-06, Amendment 39-9730 (61 FR 46703, September 5, 1996), an extended service goal analysis by the manufacturer revealed that the compliance times and repetitive inspection intervals must be reduced to meet the design service goal.

The European Aviation Safety Agency (EASA), which is the Technical Agency for the Member States of the European Union, has issued EASA Airworthiness Directive 2013-0226, dated September 23, 2013 (referred to after this as the Mandatory Continuing Airworthiness Information, or “the MCAI”), to correct an unsafe condition for Airbus Model A320-211, -212, and -231 airplanes. The MCAI states:

During center fuselage certification full scale fatigue test, damage was found on the pressurized floor fittings at Frame 36, below the lower surface panel. This condition, if not detected and corrected, could affect the structural integrity of the aeroplane.

To prevent such damage, Airbus developed modification 21282, which was introduced in production from [manufacturer serial number] MSN 0105, to reinforce the pressurized floor fitting lower surface by changing material. For affected in-service aeroplanes, Airbus issued Service Bulletin (SB) A320-57-1028, introducing repetitive inspections, and SB A320-57-1029, which provides modification instructions.

DGAC [Direction Générale de l'Aviation Civile] France issued [an] AD * * * [for Model A320-111, -211, and -231 airplanes] to require these repetitive inspections and, depending on findings, corrective action(s), while the modification was specified in that AD as optional terminating action for these inspections.

Following new analysis in the frame of ESG (Extended Service Goal) exercise, the inspection thresholds and intervals have been revised to meet the original DSG (Design Service Goal).

For the reasons described above, this [EASA] AD retains the requirements of [a] DGAC France AD * * *, which is superseded, but requires these actions within reduced compliance times. [This EASA AD also adds Model A320-212 airplanes to its applicability.]

You may examine the MCAI in the AD docket on the Internet at http://www.regulations.gov by searching for and locating it in Docket No. FAA-2015-1427.

Related Service Information Under 1 CFR Part 51

Airbus has issued Service Bulletin A320-57-1028, Revision 02, dated June 3, 2013. The service information describes procedures for an inspection to detect cracks of the pressurized floor fittings at frame (FR) 36, renewal of the zone protective finish, and replacement of fittings with new fittings.

Airbus has also issued Service Bulletin A320-57-1029, Revision 02, dated June 16, 1999. The service information describes procedures for modification of the pressurized floor fittings at FR 36.

The actions described in this service information are intended to correct the unsafe condition identified in the MCAI. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Unlike the required actions in the MCAI, this proposed AD would not permit further flight if damage (cracking) is detected during any inspection of the pressurized floor fittings at FR 36. Instead, this proposed AD would require repair of any damage before further flight. We find that, to achieve an adequate level of safety for the affected fleet, damaged structural elements must be replaced prior to further flight. This difference has been coordinated with EASA.

Costs of Compliance

We estimate that this proposed AD affects 13 airplanes of U.S. registry.

The actions required by AD 96-18-06, Amendment 39-9730 (61 FR 46703, September 5, 1996), and retained in this proposed AD, take about 3 work-hours per product, at an average labor rate of $85 per work-hour. Required parts cost about $0 per product. Based on these figures, the estimated cost of the actions that are required by AD 96-18-06 is $255 per product.

We also estimate that it would take about 11 work-hours per product to comply with the basic requirements of this proposed AD. The average labor rate is $85 per work-hour. Required parts would cost about $0 per product. Based on these figures, we estimate the cost of this proposed AD on U.S. operators to be $12,155, or $935 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 96-18-06, Amendment 39-9730 (61 FR 46703, September 5, 1996), and adding the following new AD:

Airbus: Docket No. FAA-2015-1427; Directorate Identifier 2013-NM-203-AD.

(a) Comments Due Date

We must receive comments by July 20, 2015.

(b) Affected ADs

This AD replaces AD 96-18-06, Amendment 39-9730 (61 FR 46703, September 5, 1996).

(c) Applicability

This AD applies to Airbus Model A320-211, -212, and -231 airplanes, certificated in any category, manufacturer serial numbers 0002 through 0104 inclusive.

(d) Subject

Air Transport Association (ATA) of America Code 57, Wings.

(e) Reason

This AD was prompted by an extended service goal analysis by the manufacturer, which revealed that the compliance times and repetitive inspection intervals should be reduced to meet the design service goal. We are issuing this AD to detect and correct fatigue cracking in the pressurized floor fittings at FR 36, which could result in failure of a floor fitting and subsequent depressurization of the fuselage.

(f) Compliance

Comply with this AD within the compliance times specified, unless already done.

(g) Retained Inspection

This paragraph restates the requirements of paragraph (a) of AD 96-18-06, Amendment 39-9730 (61 FR 46703, September 5, 1996), with revised service information for Airbus Model A320-211 and -231 airplanes. Prior to the accumulation of 16,000 total landings, or within 6 months after October 10, 1996 (the effective date of AD 96-18-06), whichever occurs later, perform a visual inspection to detect cracks of the 6 fittings of the pressurized floor at frame 36 under the lower surface panel, in accordance with the Accomplishment Instructions of Airbus Service Bulletin A320-57-1028, Revision 1, dated April 19, 1996; or Airbus Service Bulletin A320-57-1028, Revision 02, dated June 3, 2013. As of the effective date of this AD, use only Airbus Service Bulletin A320-57-1028, Revision 02, dated June 3, 2013, for accomplishing the actions required by this paragraph. Accomplishment of the initial inspection required by paragraph (i) of this AD terminates the actions required by this paragraph.

(1) If no cracking is found, prior to further flight, renew the zone protective finish, in accordance with the Accomplishment Instructions of Airbus Service Bulletin A320-57-1028, Revision 1, dated April 19, 1996; or Airbus Service Bulletin A320-57-1028, Revision 02, dated June 3, 2013. As of the effective date of this AD, use only Airbus Service Bulletin A320-57-1028, Revision 02, dated June 3, 2013, for accomplishing the actions required by this paragraph. Repeat the visual inspection thereafter at intervals not to exceed 12,000 landings.

(2) If only 1 of the 6 fittings is found to be cracked and that crack is less than or equal to 0.59 inch (15 mm) in length, prior to further flight, replace the cracked fitting with a new fitting, in accordance with the Accomplishment Instructions of Airbus Service Bulletin A320-57-1028, Revision 1, dated April 19, 1996; or Airbus Service Bulletin A320-57-1028, Revision 02, dated June 3, 2013. Thereafter, prior to the accumulation of 500 landings following accomplishment of this replacement, replace the remaining 5 fittings with new fittings, in accordance with the Accomplishment Instructions of Airbus Service Bulletin A320-57-1028, Revision 1, dated April 19, 1996; or Airbus Service Bulletin A320-57-1028, Revision 02, dated June 3, 2013. As of the effective date of this AD, use only Airbus Service Bulletin A320-57-1028, Revision 02, dated June 3, 2013, for accomplishing the actions required by this paragraph.

(3) If only 1 of the 6 fittings is found to be cracked, and that crack is greater than 0.59 inch (15 mm) in length, prior to further flight, replace all six fittings with new fittings, in accordance with the Accomplishment Instructions of Airbus Service Bulletin A320-57-1028, Revision 1, dated April 19, 1996; or Airbus Service Bulletin A320-57-1028, Revision 02, dated June 3, 2013. As of the effective date of this AD, use only Airbus Service Bulletin A320-57-1028, Revision 02, dated June 3, 2013, for accomplishing the actions required by this paragraph.

(4) If 2 or more fittings are found to be cracked, prior to further flight, replace all 6 fittings with new fittings, in accordance with the Accomplishment Instructions of Airbus Service Bulletin A320-57-1028, Revision 1, dated April 19, 1996; or Airbus Service Bulletin A320-57-1028, Revision 02, dated June 3, 2013. As of the effective date of this AD, use only Airbus Service Bulletin A320-57-1028, Revision 02, dated June 3, 2013, for accomplishing the actions required by this paragraph.

(h) Retained Optional Terminating Action

This paragraph restates the provisions of paragraph (b) of AD 96-18-06, Amendment 39-9730 (61 FR 46703, September 5, 1996), with revised service information for Airbus Model A320-211 and -231 airplanes. Replacement of all 6 fittings with new fittings, in accordance with the Accomplishment Instructions of Airbus Service Bulletin A320-57-1028, Revision 01, dated April 19, 1996; or Airbus Service Bulletin A320-57-1028, Revision 02, dated June 3, 2013; constitutes terminating action for the inspection requirements of paragraph (g) of this AD.

(i) New Inspection

(1) At the latest of the times in paragraph (i)(1)(i), (i)(1)(ii), or (i)(1)(iii) of this AD: Do a detailed inspection of the pressurized floor fittings at frame 36, in accordance with the Accomplishment Instructions of Airbus Service Bulletin A320-57-1028, Revision 02, dated June 3, 2013. Repeat the inspection thereafter, at intervals not to exceed 9,300 flight cycles or 18,600 flight hours, whichever occurs first. Accomplishment of the initial inspection required by this paragraph terminates the actions required by paragraph (g) of this AD.

(i) Prior to the accumulation of 20,900 total flight cycles or 41,800 total flight hours, whichever occurs first.

(ii) Prior to the accumulation of 9,300 flight cycles or 18,600 flight cycles since the most recent inspection required by paragraph (g) or (i) of this AD, whichever occurs first.

(iii) At the earlier of the times specified in paragraph (i)(iii)(A) and (i)(iii)(B) of this AD.

(A) Prior to the accumulation of 1,250 flight cycles or 2,500 flight hours after the effective date of this AD, whichever occurs first.

(B) Prior to the accumulation of 12,000 flight cycles since the most recent inspection required by paragraph (g) or (i) of this AD.

(2) If any crack is found during any inspection required by paragraph (i)(1) of this AD: Before further flight, repair using a method approved by the Manager, International Branch, ANM-116, Transport Airplane Directorate, FAA; or the European Aviation Safety Agency (EASA); or Airbus's EASA Design Organization Approval (DOA).

(j) New Optional Terminating Action

Modification (replacement of aluminum fittings with titanium fittings) of the pressurized floor fittings at frame 36, in accordance with the Accomplishment Instructions of Airbus Service Bulletin A320-57-1029, Revision 02, dated June 16, 1999, is terminating action for the repetitive inspections required by paragraphs (g) and (i) of this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 96-18-06, Amendment 39-9730 (61 FR 46703, September 5, 1996), are approved as AMOCs for the corresponding provisions of this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(l) Related Information

(1) Refer to Mandatory Continuing Airworthiness Information (MCAI) EASA Airworthiness Directive 2013-0226, dated September 23, 2013, for related information. This MCAI may be found in the AD docket on the Internet at http://www.regulations.gov by searching for and locating Docket No. FAA-2015-1427.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on May 19, 2015.
Dionne Palermo,
Acting Manager, Transport Airplane Directorate, Aircraft Certification Service.

[FR Doc. 2015-13340 Filed 6-4-15; 8:45 am]

BILLING CODE 4910-13-P